DEPARTMENT OF TRANSPORTATION

Surface Transportation Board

[STB Finance Docket No. 33985]

LB Railco, Inc.—Lease and Operation Exemption—San Francisco Port Commission

LB Railco, Inc. (LB Railco) has filed a verified notice of exemption under 49 CFR 1150.31 to operate lines leased from the San Francisco Port Commission between a junction with Union Pacific Services, near Amador Street and Cargo Way, and the Intermodal Container Transfer Facility, and thence beyond to Piers 92, 94, and 96, a total distance of approximately one-half mile in San Francisco, CA.

LB Railco indicates that it intends to commence operations by December 30, 2000. The earliest the transaction can be consummated is December 29, 2000 (7 days after the exemption was filed).

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33985, must be filed with the Surface Transportation Board, Office of the Secretary, Case Control Unit, 1925 K Street, NW., Washington, DC 20423-0001. In addition, a copy of each pleading must be served on John F. McHugh, McHugh & Barnes, P.C., 20 Exchange Place, New York, NY 10005.

Board decisions and notices are available on our website at “WWW.STB.DOT.GOV.”

Decided: December 29, 2000.
By the Board, David M. Konschnik, Director, Office of Proceedings.
Vernon A. Williams,
Secretary.

[FR Doc. 01-331 Filed 1-5-01; 8:45 am]

BILLING CODE 4915-00-P